ENVIRONMENTAL PROTECTION AGENCY

[ER-FRL-6699-2]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167.

An explanation of the ratings assigned to draft environmental impact statements (EISs) was published in FR dated April 11, 2008 (73 FR 19833).

Draft EISs

EIS No. 20080044, ERP No. D-BIA-L69001-OR, Cascade Locks Resort and Casino Project, Application for the Fee-to-Trust Transfer of 25 Acres of Land within the City of Cascade Locks, Confederated Tribes of the Warn Springs Reservation of Oregon, Cascade Locks, Hood River County, OR.

Summary: EPA expressed environmental concerns about air quality impacts and construction impacts to fish populations, and recommended additional air quality analyses be performed. Rating EC2.

EIS No. 20080105, ERP No. D-AFS-K65339-CA, Orleans Community Fuels Reduction and Forest Health Project, To Manage Forest Stands to Reduce Hazardous Fuel Conditions, Orleans Ranger District, Six Rivers National Forest, Humboldt County, CA.

Summary: EPA does not object to the proposed action. Rating LO.

EIS No. 20080114, ERP No. D-BPA-L91030-WA, Lyle Falls Fish Passage Project, To Improve Fish Passage to Habitat in the Upper Part of the Watershed, Located on the Lower Klickitat River, Klickitat County, WA.

Summary: EPA does not object to the proposed action. Rating LO.

Final EISs

EIS No. 20070294, ERP No. F-APH-65176-00, ADOPTION—Resident Canada Goose Management Plan, Evaluate Alternative Strategies to Reduce, Manage, and Resident Canada Goose Population, Implementation, within the Conteriminous US.

Summary: No formal comment letter was sent to the preparing agency.

EIS No. 20080026, ERP No. F-NRC-D09802-MD, License Renewal of the National Bureau of Standards Reactor (NBSR), Renew the Operating License for an Additional 20 Years, National Institute of Standards and Technology (NIST), NUREG-1873, Montgomery County, MD.

Summary: EPA does not object to the proposed action.

EIS No. 20080104, ERP No. F-JUS-K80049-NV, Las Vegas Detention Facility, Proposed Contractor-Owned/Contractor-Operated Detention. Facility, Implementation, Nevada Area.

Summary: EPA continues to have environmental concerns about water resource impacts and jurisdictional delineation. EPA also requested that the project incorporate green building design.

EIS No. 20080109, ERP No. F-AFS-L65512-OR, Mt. Hood National Forest and Columbia River Gorge National Scenic Area, Site-Specific Invasive Plant Treatments, Forest Plan Amendments #16, Mt. Hood National Forest and Columbia River Gorge National Scenic Area, Clackamas, Hood River, Multnomah and Wasco Counties, OR.

Summary: EPA's comments were addressed; therefore, EPA does not object to the proposed action.

EIS No. 20080130, ERP No. F-AFS-L65554-00, Mt. Ashland Late-Successional Reserve Habitat Restoration and Fuels Reduction Project, To Promote and Maintain Late-Successional Habitat, Oak Knoll Ranger District, Klamath National Forest, Siskiyou County, CA and Jackson County, OR.

Summary: The Final EIS addressed EPA's comments on the Draft EIS; therefore, EPA does not object to the proposed action.

EIS No. 20080148, ERP No. F-SFW-F65068-WI, Trempealeau National Wildlife Refuge Comprehensive Conservation Plan, Implementation, located within the Mississippi River Valley, Buffalo and Trempealeau Counties, WI.

Summary: EPA does not object to the proposed action.

Dated: May 20, 2008.
Robert W. Hargrove,
Director, NEPA Compliance Division, Office of Federal Activities.

[FR Doc. E8-11664 Filed 5-22-08; 8:45 am]

BILLING CODE 6560-50-P